DEPARTMENT OF THE INTERIOR

Bureau of Reclamation

[RR01313000, 18XR0680A1, RX.00036916.5002000]

Notice of Intent To Prepare an Environmental Impact Statement and Public Scoping Open Houses for the Boise River Basin Feasibility Study, Elmore County, Idaho

AGENCY: Bureau of Reclamation, Interior.

ACTION: Notice of intent; request for comments.

SUMMARY: The Bureau of Reclamation (Reclamation) intends to prepare an Environmental Impact Statement (EIS) on the Boise River Basin Feasibility Study. Reclamation is requesting public and agency comment to identify significant issues or other alternatives to be addressed in the EIS.

DATES: Submit written comments on the scope of the EIS on or before September 9, 2019.

Three scoping open houses will be held on the following dates and times:

• August 27, 2019, 1:00 p.m. to 3:00 p.m., Pine, ID.

• August 28, 2019, 6:00 p.m. to 8:00 p.m., Boise, ID.

• August 29, 2019, 6:00 p.m. to 8:00 p.m., Mountain Home, ID.

ADDRESSES: Provide written scoping comments, requests to be added to the mailing list, or requests for sign language interpretation for the hearing impaired or other special assistance needs to Ms. Megan Sloan, Project Manager, Bureau of Reclamation, Snake River Area Office, 230 Collins Road, Boise, ID 83702; or email BOR-SRA-BoiFeasibility@usbr.gov.

The scoping meetings and open houses will be located at:

• Pine—Boise River Senior Center, 350 North Pine Featherville Road, Pine, Idaho 83647;

• Boise—Wyndham Garden Boise Airport Hotel, 3300 South Vista Avenue, Boise, Idaho 83705; and

• Mountain Home—American Legion, 515 East 2nd South Street, Mountain Home, Idaho 83647.

FOR FURTHER INFORMATION CONTACT: Ms. Megan Sloan, Bureau of Reclamation, Snake River Area Office, 230 Collins Road, Boise, ID 83702; telephone (208) 383-2222; facsimile (208) 383-2210; email BOR-SRA-BoiFeasibility@usbr.gov. Persons who use a telecommunications device for the deaf may call the Federal Relay Service (FedRelay) at 1-800-877-8339 TTY/ASCII to contact the above individual during normal business hours or to leave a message or question after hours. You will receive a reply during normal business hours. Information on this project may also be found at: https://www.usbr.gov/pn/studies/boisefeasibility/index.html.

SUPPLEMENTARY INFORMATION: Reclamation is issuing this notice pursuant to the National Environmental Policy Act of 1969, as amended (NEPA), 42 U.S.C. 4321 et seq.; the Council on Environmental Quality's (CEQ) regulations for implementing NEPA, 43 CFR parts 1500 through 1508; and the Department of the Interior's NEPA regulations, 43 CFR part 46.

Background

Under the Omnibus Public Land Management Act of 2009 (Omnibus Act), Public Law (Pub. L.) 111-11, Section 9001, Congress authorized Reclamation to conduct feasibility studies on projects that address water shortages within the Boise River Basin System and that are considered appropriate for study by Reclamation's 2006 Boise/Payette Water Storage Assessment Report (2006 Assessment Report). The action proposed was identified in the 2006 Assessment Report as appropriate for study and is the subject of an ongoing feasibility study pursuant to the Omnibus Act and the Water Infrastructure Improvements for the Nation (WIIN) Act of 2016. The WIIN Act authorizes Reclamation to enter into agreements with requesting states or subdivisions thereof to design, study, construct, or expand federally owned storage projects, and Congress has specified that this project be studied under WIIN Act authority. Public Law 114-322, Section 4007.

The Bureau of Reclamation, in partnership with the Idaho Water Resource Board (IWRB), proposes to raise Anderson Ranch Dam 6 feet, raising the top of the reservoir pool from the present elevation of 4,196 feet to 4,202 feet, allowing the ability to capture and store approximately 29,000 additional acre-feet of water. This new space would allow Reclamation to capture additional water when available during wet years for supplemental supply and to hold over for use during dry years. Potential spaceholders include existing Reclamation contractors and IWRB, which could in turn contract water to existing Water District 63 water users and/or may offer water through the Idaho water supply bank's Water District 63 rental pool.

Proposed dam structure modifications include:

• Raising the earthen embankment dam crest by 6 feet.

• Demolishing the existing spillway crest structure and bridge.

• Removing, rehabilitating, and re-installing the existing radial gates.

• Constructing a new spillway crest structure and bridge.

• Constructing a new two-lane road across the dam.

The existing road across the dam would be closed during construction. An alternative route has been identified that would provide safe public transport. There would likely be a reservoir restriction of 6-10 feet during spillway construction.

In addition to work on the dam, the project would include modification to structures around the reservoir such as culverts, bridges, and recreation sites.

Reclamation is not presently aware of any known or possible Indian Trust Assets or environmental justice issues associated with the proposed action but requests any information relative to this issue be submitted during the scoping period.

Reclamation intends to complete an EIS for this project pursuant to the National Environmental Policy Act to study the potential environmental effects of the proposal and a reasonable range of alternatives designed to respond to the purpose and need for the project, as well as a no-action alternative. The scoping process and public open houses identified in this notice are intended to inform the public about the project and to request public and agency comment to identify significant issues or alternatives to be addressed in the EIS.

Special Assistance for Public Scoping and Open House Meetings

If special assistance is required to participate in the public scoping and open house meetings, please contact Ms. Megan Sloan, Bureau of Reclamation, Snake River Area Office, 230 Collins Road, Boise, ID 83702; telephone (208) 383-2222; facsimile (208) 383-2210; email BOR-SRA-BoiFeasibility@usbr.gov. Persons who use a telecommunications device for the deaf may call the Federal Relay Service (FedRelay) at 1-800-877-8339 TTY/ASCII to contact the above individual during normal business hours or to leave a message or question after hours. You will receive a reply during normal business hours. All meeting facilities are physically accessible to people with disabilities.

Public Disclosure

Before including your address, phone number, email address, or other personal identifying information in your comment, you should be aware that your entire comment—including your personal identifying information—may be made publicly available at any time. While you may ask us in your comment to withhold your personal identifying information from public review, we cannot guarantee that we will be able to do so.

Jennifer Carrington,
Acting Regional Director, Pacific Northwest Region.

[FR Doc. 2019-16744 Filed 8-8-19; 8:45 am]

BILLING CODE 4332-90-P